DEPARTMENT OF COMMERCE

Foreign-Trade Zones Board

Foreign-Trade Zone 15—Kansas City, Missouri, Area; Site Renumbering Notice

Foreign-Trade Zone 15 was approved by the Foreign-Trade Zones Board on March 23, 1973 (Board Order 93), and expanded on October 25, 1974 (Board Order 102), on February 28, 1996 (Board Order 804), on May 31, 1996 (Board Order 824), on December 8, 1997 (Board Order 934), on October 19, 1998 (Board Order 1004), on January 8, 1999 (Board Order 1016), on June 17, 1999 (Board Order 1042), on April 15, 2002 (Board Order 1226), on April 20, 2005 (Board Order 1388), on September 7, 2007 (Board Order 1524), and on October 23, 2009 (Board Order 1650).

FTZ 15 currently consists of 11 “sites” totaling 13,301.64 acres in the Kansas City area. The current update does not alter the physical boundaries that have previously been approved, but instead involves an administrative renumbering of the existing sites (with the exception of Sites 4, 5, 7, 8, 9, 10 and 13) to separate unrelated, non-contiguous sites for record-keeping purposes. (Note: Sites 6 and 12 have expired and the site numbers will not be reused.)

Under this revision, the site list for FTZ 15 will be as follows: Site 1 (8.46 acres total)—within Executive Park located at 1650 North Topping and 1226 Topping Drive in Kansas City; Site 2 (64.3 acres total)—surface/underground warehouse complex located at 8300 NE Underground Drive and at 3600 Great Midwest Drive in Kansas City; Site 3 (9,667 acres total)—within the 10,000-acre Kansas City International Airport facility; Site 4 (416 acres)—Carefree Industrial Park, 1600 North Missouri Highway 291, Sugar Creek; Site 5 (1,000 acres)—CARMAR Underground Business Park/CARMAR Industrial Park, No. 1 Civil War Road, Carthage; Site 7 (1,567 acres)—Richards-Gebaur Memorial Airport/Industrial Park, 1540 Maxwell, Kansas City; Site 8 (26 acres)—Chillicothe Industrial Park located at Ryan Road and Brunswick in Chillicothe; Site 9 (10 acres)—warehouse located at 3800 South 48th Terrace, St. Joseph; Site 10 (72.31 acres)—warehouse located at 8201 East 23rd Street, Kansas City; Site 11 (22 acres)—warehouse located at 13500 15th Street, Grandview; Site 13 (36.57 acres, expires 10/31/2014)—7501 NW 106th Terrace, Kansas City; Site 14 (68 acres)—within the 330-acre Air World Center Business Park, located at Interstate 29 and 112th Street, Kansas City; Site 15 (161 acres)—city-owned Harley Davidson site, 11401 North Congress Avenue, Kansas City; Site 16 (155 acres)—Congress Corporate Center Industrial Park, located at the northwest corner of 112th Street and North Congress, Kansas City; Site 17 (27 acres total)—within the Grandview Industrial Park at 13700 South US 71 Highway and at 5610 East 139th Street in Grandview; and, Site 18 (1 acre)—10201 North Everton in Kansas City.

FOR FURTHER INFORMATION CONTACT: Camille Evans at Camille.Evans@trade.gov or (202) 482-2350.

Dated: September 16, 2013.
Andrew McGilvray,
Executive Secretary.

[FR Doc. 2013-22942 Filed 9-19-13; 8:45 am]

BILLING CODE 3510-DS-P